SECURITIES AND EXCHANGE COMMISSION

[Release No. 34-67037; File No. SR-NYSEAmex-2012-32]

Self-Regulatory Organizations; NYSE Amex LLC; Notice of Filing and Immediate Effectiveness of Proposed Rule Change Amending Its Certificate of Formation, Amended and Restated Operating Agreement, Company Guide, and Rules To Change the Name of the Exchange to NYSE MKT LLC

May 21, 2012.

Pursuant to Section 19(b)(1) of the Securities Exchange Act of 1934 (“Act”) ¹ and Rule 19b-4 thereunder,² notice is hereby given that, on May 14, 2012, NYSE Amex LLC (“NYSE Amex” or the “Exchange”) filed with the Securities and Exchange Commission (“Commission”) the proposed rule change as described in Items I, II, and III below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange proposes to amend its Certificate of Formation, Amended and Restated Operating Agreement (“Operating Agreement”), Company Guide, and Rules to change the name of the Exchange to NYSE MKT LLC. The text of the proposed rule change is available at the Exchange, www.nyse.com, and the Commission's Public Reference Room.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and Statutory Basis for, the Proposed Rule Change

1. Purpose

NYSE Amex proposes to amend its Certificate of Formation, Operating Agreement, Company Guide, and Rules to change the name of the Exchange to NYSE MKT LLC.

At the time of the acquisition of the American Stock Exchange LLC (“Amex”) by NYSE Euronext on October 1, 2008, the name of the Exchange, as the successor entity to Amex, was initially established as “NYSE Alternext US LLC.” ³ On March 3, 2009, the name of the Exchange was changed to “NYSE Amex LLC.” ⁴ The Exchange has now determined that for marketing purposes it would be desirable to change the name of the Exchange to “NYSE MKT LLC.”

³ See Securities Exchange Act Release No. 58673 (September 29, 2008), 73 FR 57707 (October 3, 2008) (SR-Amex-2008-62).

⁴ See Securities Exchange Act Release No. 59575 (March 13, 2009), 74 FR 11803 (March 19, 2009) (SR-NYSEALTR-2009-24).

Specifically, the Certificate of Formation of the Exchange would be amended to remove the reference to “NYSE Amex LLC” and replace it with “NYSE MKT LLC.” The Operating Agreement of NYSE Amex LLC also would be amended and restated to become the Second Amended and Restated Operating Agreement of NYSE MKT LLC, with the word “Company” to be redefined to mean “NYSE MKT LLC.” Article 1, Section 1.01 of the Operating Agreement would be revised to state the name of the limited liability company as “NYSE MKT LLC,” and in Article 3, Section 2.03 the “NYSE Amex DCRC” would be renamed the “NYSE MKT DCRC.”

In the Exchange's Rules and its Company Guide, references to “NYSE Amex,” “Amex,” “NYSE Amex LLC,” “Alternext,” and “American Stock Exchange” would be changed to “NYSE MKT” or “the Exchange” or deleted, as appropriate. The Exchange proposes to add a new definition to the General and Floor Rules to define the term “Company Guide” to mean the NYSE MKT LLC Company Guide and conform references in the Exchange's rules accordingly. The Exchange does not propose to rename the NYSE Amex options business; therefore, references to “Amex Trading Permit,” “ATP Holder,” and “NYSE Amex Options” would not be changed. The Exchange proposes to update the Exchange's address in Sections 332 and 350 of the Company Guide and Rule 341A. In addition, the Exchange proposes to simplify cross-references within the Exchange's rules. References to “Exchange Rule” or “NYSE Amex Rule” would be shortened to “Rule” and references to “NYSE Amex Equities” would be shorted to “Equities” (e.g., Rule 0—NYSE Amex Equities would become Rule 0—Equities).

None of the foregoing changes are substantive.⁵

⁵ The Exchange will submit subsequent rule filings as necessary to make any technical corrections to proposed rule changes that are pending as of the date of submission of this filing and approved by the Commission thereafter.

2. Statutory Basis

The Exchange believes that the proposed rule change is consistent with Section 6(b) of the Securities Exchange Act of 1934 (the “Act”),⁶ in general, and Section 6(b)(5) of the Act,⁷ in particular, in that it is designed to prevent fraudulent and manipulative acts and practices, to promote just and equitable principles of trade, to foster cooperation and coordination with persons engaged in facilitating transactions in securities, to remove impediments to and perfect the mechanism of a free and open market and a national market system and, in general, to protect investors and the public interest. The Exchange proposes to change its name for marketing purposes, and the proposed rule change is intended to accurately reflect the name change in the Exchange's rules and governing documents. In addition, the Exchange is proposing certain changes that would make the rule text simpler and more uniform so that it will be easier for market participants to use, which is in the public interest.

⁶ 15 U.S.C. 78f(b).

⁷ 15 U.S.C. 78f(b)(5).

B. Self-Regulatory Organization's Statement on Burden on Competition

The Exchange does not believe that the proposed rule change will impose any burden on competition that is not necessary or appropriate in furtherance of the purposes of the Act.

C. Self-Regulatory Organization's Statement on Comments on the Proposed Rule Change Received From Members, Participants, or Others

No written comments were solicited or received with respect to the proposed rule change.

III. Date of Effectiveness of the Proposed Rule Change and Timing for Commission Action

The foregoing proposed rule change is concerned solely with the administration of the Exchange pursuant to Section 19(b)(3)(A)(iii) ⁸ of the Act and Rule 19b-4(f)(3) ⁹ thereunder. Accordingly, the proposal will take effect upon filing with the Commission. At any time within 60 days of the filing of the proposed rule change, the Commission summarily may temporarily suspend such rule change if it appears to the Commission that such action is necessary or appropriate in the public interest, for the protection of investors, or otherwise in furtherance of the purposes of the Act.

⁸ 15 U.S.C. 78s(b)(3)(A)(iii).

⁹ 17 CFR 240.19b-4(f)(3).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an email to rule-comments@sec.gov. Please include File Number SR-NYSEAmex-2012-32 on the subject line.

Paper Comments

• Send paper comments in triplicate to Elizabeth M. Murphy, Secretary, Securities and Exchange Commission, 100 F Street, NE., Washington, DC 20549-1090.

All submissions should refer to File Number SR-NYSEAmex-2012-32. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549, on official business days between the hours of 10:00 a.m. and 3:00 p.m. Copies of the filing also will be available for inspection and copying at the principal office of the Exchange. All comments received will be posted without change; the Commission does not edit personal identifying information from submissions. You should submit only information that you wish to make available publicly. All submissions should refer to File Number SR-NYSEAmex-2012-32 and should be submitted on or before June 15, 2012.

For the Commission, by the Division of Trading and Markets, pursuant to delegated authority.¹⁰
¹⁰ 17 CFR 200.30-3(a)(12).
Kevin M. O'Neill,
Deputy Secretary.

[FR Doc. 2012-12794 Filed 5-24-12; 8:45 am]

BILLING CODE 8011-01-P